DEPARTMENT OF HOMELAND SECURITY

Federal Emergency Management Agency

[Docket ID: FEMA-2015-0016; OMB No. 1660-0131]

Agency Information Collection Activities: Submission for OMB Review; Comment Request; Threat and Hazard Identification and Risk Assessment (THIRA)—State Preparedness Report (SPR) Unified Reporting Tool

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 4, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection was previously published in the Federal Register on May 29, 2015, at 80 FR 30696 with a 60 day public comment period. FEMA received one request for a copy of the proposed information collection which was sent to the requester on May 29, 2015. The purpose of this notice is to notify the public that FEMA will submit the information collection abstracted below to the Office of Management and Budget for review and clearance.

Collection of Information

Title: Threat and Hazard Identification and Risk Assessment (THIRA)—State Preparedness Report (SPR) Unified Reporting Tool.

Type of information collection: Revision of a currently approved information collection.

OMB Number: 1660-0131.

Form Titles and Numbers: FEMA Form 008-0-19, THIRA-SPR Unified Reporting Tool; FEMA Form 008-0-20, THIRA-SPR Unified Reporting Tool; FEMA Form 008-0-23, THIRA/SPR After Action Conference Calls.

Abstract: This package is a revision to the collection originally approved as the State Preparedness Report. The revised name more accurately reflects exactly what information is collected and how. It serves as a report on the current capability levels and a description of targeted capability levels from all states and territories receiving Federal preparedness assistance administered by the Department of Homeland Security.

Affected Public: State, Local or Tribal Government.

Estimated Number of Respondents: 123.

Estimated Total Annual Burden Hours: 71,363 hours.

Estimated Cost: The estimated annual cost to respondents for the hour burden is $3,234,884.79. The estimated annual cost to respondents operations and maintenance costs for technical services is $10,833,275. There are no annual start-up or capital costs. The cost to the Federal Government is $2,154,074.

Janice Waller,
Acting Director, Records Management Division, Mission Support Bureau, Federal Emergency Management Agency, Department of Homeland Security.

[FR Doc. 2015-19220 Filed 8-4-15; 8:45 am]

BILLING CODE 9111-46-P